DEPARTMENT OF COMMERCE

National Oceanic and Atmospheric Administration

[I.D.082400B]

Endangered Species; Permits

AGENCY: National Marine Fisheries Service (NMFS), National Oceanic and Atmospheric Administration (NOAA), Commerce.

ACTION: Receipt of application for a scientific research permit (1260); receipt of applications to modify permits (1190).

SUMMARY: Notice is hereby given of the following actions regarding permits for takes of endangered and threatened species for the purposes of scientific research and/or enhancement: NMFS has received a permit application from Dr. Joseph Powers, Acting Regional Administrator - Southeast Region - NMFS (SER) (1260); NMFS has received a request to modify permit (1190) from Dr. Rebecca Lent, Regional Administrator - Southwest Region, NMFS (SWR).

DATES: Comments or requests for a public hearing on the application or modification request must be received at the appropriate address or fax number no later than 5:00pm eastern standard time on October 2, 2000.

ADDRESSES: Written comments on the application or modification request should be sent to the appropriate office as indicated below. Comments may also be sent via fax to the number indicated for the application or modification request. Comments will not be accepted if submitted via e-mail or the internet. The applications and related documents are available for review in the indicated office, by appointment:

For permits 1260, 1190: Office of Protected Resources, Endangered Species Division, F/PR3, 1315 East-West Highway, Silver Spring, MD 20910 (ph: 301-713-1401, fax: 301-713-0376).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species are covered in this notice:

Sea Turtles

Green turtle (Chelonia mydas), Hawksbill turtle (Eretmochelys imbricata), Kemp's ridley turtle (Lepidochelys kempii), Leatherback turtle (Dermochelys coriacea), Loggerhead turtle (Caretta caretta), olive ridley turtle (Lepidochelys olivacea).

New Applications Received

Application 1260: The applicant has requested a four year permit to take listed sea turtles in the coastal waters of the Atlantic Ocean and Gulf of Mexico. The research conducted in these areas supports the National Marine Fisheries Service sea turtle recovery program. Research activities include: directed in water research, aerial surveys, resource assessment surveys, and fishery technology testing and implementation. Leatherback, loggerhead, green, hawksbill and Kemp's ridley sea turtles are the focus of the recovery efforts in the southeast region.

Modification Requests Received

Permit #1190: The applicant requests a modification to Permit 1190. Permit 1190 authorizes research activities on sea turtles captured incidentally by longline fishery vessels in the Hawaiian region. These activities will aid in monitoring the Hawaiian longline fishery, a term and condition of the November 3, 1998 biological opinion on that fishery. In addition, these research activities are described in the Pacific Sea Turtle Recovery Plans. The incidental take of these turtles is covered by the incidental take statement of the November 3, 1998 opinion. The purpose of the research is to document and evaluate the incidental take of pelagic turtles by the longline fishery, to help estimate the impact of the fishery on listed turtles as individuals and as populations, and to determine methods to reduce that impact. Research will evaluate how incidental captures affect sea turtle anatomy and physiology as a function of season, location of take, water temperature, species, size, time of day, and gear configuration. The results of the research will help NMFS to better meet the goals and objectives of the Pacific Sea Turtle Recovery Plans, the Hooking Mortality Workshop, and the requirements of Section 7 Biological Opinions developed for this fishery, and ultimately, to fulfill ESA responsibilities to protect, conserve, and recover listed species.

Incidentally-captured turtles will be examined, tagged, weighed, measured, resuscitated using approved techniques, have tissue samples taken, and be released. Some of these turtles will have transmitters attached. Dead turtles will be removed from the marine environment for research purposes, including necropsy and collection of life history data. Tissue samples may be used lab studies including the following: toxicology, histopathology, and genetic studies to identify nesting origins of incidentally taken turtles.

Modification #2 would increase the authorized annual take of listed sea turtles from 10 green, 25 leatherback, 150 loggerhead, 10 hawksbill and 25 olive ridley sea turtles annually to 40 green, 100 leatherback, 600 loggerhead, 40 hawksbill and 100 olive ridley turtles annually. The increases are necessary due to higher numbers of observed takes expected under court mandated requirements. On August 4, 2000 a court order was issued and filed in U.S. District Court, District of Hawaii, requiring the National Marine Fisheries Service (NMFS) to increase its observer coverage to over 20% for the Hawaii longline fishery (historically, NMFS has had a 3%-5% coverage level for the fishery). The increases in maximum takes requested are proportional to the increase in observer coverage required. Additionally, the applicant requests an increase in the number of hard-shelled turtles which may be tagged with satellite transmitters from 15 to 50 annually.

Dated: August 25, 2000.
Barbara Schroeder,
Acting Chief, Endangered Species Division, Office of Protected Resources, National Marine Fisheries Service.

[FR Doc. 00-22321 Filed 8-30-00; 8:45 am]

Billing Code: 3510-22 -S